DEPARTMENT OF HOUSING AND URBAN DEVELOPMENT

[Docket No. FR-5639-N-01]

Notice of Regulatory Waiver Requests Granted for the First Quarter of Calendar Year 2012

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on January 1, 2012, and ending on March 31, 2012.

FOR FURTHER INFORMATION CONTACT: For general information about this notice, contact Camille E. Acevedo, Associate General Counsel for Legislation and Regulations, Department of Housing and Urban Development, 451 Seventh Street SW., Room 10282, Washington, DC 20410-0500, telephone 202-708-1793 (this is not a toll-free number). Persons with hearing- or speech-impairments may access this number through TTY by calling the toll-free Federal Information Relay Service at 800-877-8339.

For information concerning a particular waiver that was granted and for which public notice is provided in this document, contact the person whose name and address follow the description of the waiver granted in the accompanying list of waivers that have been granted in the first quarter of calendar year 2012.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from January 1, 2012 through March 31, 2012. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the first quarter of calendar year 2012) before the next report is published (the second quarter of calendar year 2012), HUD will include any additional waivers granted for the first quarter in the next report.

Accordingly, information about approved waiver requests pertaining to HUD regulations is provided in the Appendix that follows this notice.

Dated: June 21, 2012.
Kevin M. Simpson,
Principal Deputy General Counsel.

Appendix

Listing of Waivers of Regulatory Requirements Granted by Offices of the Department of Housing and Urban Development January 1, 2012 Through March 31, 2012

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 58.22(a).

Project/Activity: Clark County, WA requested a waiver for a Lilac Gardens HOME Project that involved new construction of approximately 35-38 units of affordable multi-family housing. A waiver was needed because the grantee committed non-HUD funds to acquire property for construction of a multi-family rental property prior to the completion of the environmental review as well as prior to the submission and approval of the Request for Release of Funds.

Nature of Requirement: HUD's regulation at 24 CFR 58.22(a) requires that an environmental review be performed and a Request for Release of Funds (RROF) be completed and certified prior to the commitment of non-HUD funds to a project using HUD funds. Neither a recipient nor any participant in the development process, including public or private nonprofit or for-profit entities, or any of their contractors, may commit HUD assistance under a program listed in § 58.1(b) on an activity or project until HUD or the state has approved the recipient's RROF and the related certification from the responsible entity. In addition, until the RROF and the related certification have been approved, neither a recipient nor any participant in the development process may commit non-HUD funds on or undertake an activity or project under a program listed in § 58.1(b) if the activity or project would have an adverse environmental impact or limit the choice of reasonable alternatives.

Granted By: Mercedes Márquez, Assistant Secretary for Community Planning and Development.

Date Granted: January 9, 2012.

Reason Waived: It was determined that the project would further the HUD mission and advance HUD program goals to develop viable, quality communities, and affordable housing. It was further determined that the grantee unknowingly violated the regulation; no HUD funds were committed; and based on the environmental assessments and the HUD field inspection, granting the waiver will not result in any unmitigated, adverse environmental impact.

Contact: Lauren McNamara, Office of Energy & Environment, Office of Community Planning and Development, Department of Housing and Urban Development, 451 Seventh Street SW., Room 7250, Washington, DC 20410, telephone (202) 402-4466.

• Regulation: 24 CFR 92.503(b)(3).

Project/Activity: The cities of Chesapeake, VA; Durham, NC; Greensboro, NC; and the states of Colorado and Virginia requested a waiver of 24 CFR 92.503(b)(3) that requires grant funds provided under the HOME Investment Partnerships (HOME) program for projects that were terminated before completion be repaid to the account from which they were disbursed.

Nature of Requirements: The cities and states were obligated to repay HOME funds for projects that were terminated before completion to the HOME grant from which they were expended. If all or a portion of the total repayment was repaid to an expired account, the repayment would have been received by HUD but retained by the U.S. Treasury. As a result, the repaid funds would have been no longer available for the cities and states to use in eligible affordable housing activities. The National Affordable Housing Act states that such repaid funds shall be immediately available to the grantee for investment in eligible affordable housing activities. In these cases, compliance with the regulation thwarted statutory intent. The waivers were granted to permit the cities and states to repay their local HOME Investment Trust Fund accounts instead of their HOME Investment Trust Treasury accounts and make the repaid funds available for investment in additional HOME-eligible activities.

Granted By: Mercedes Márquez, Assistant Secretary for Community Planning and Development.

Dates Granted: February 17, 2012; March 16, 2012; March 19, 2012; March 30, 2012.

Reasons Waived: The waivers were granted to permit the cities and states to repay their HOME Investment Trust Fund local accounts to make the funds available for eligible affordable housing activities.

Contact: Virginia Sardone, Office of Community Planning and Development, Department of Housing and Urban Development, 451 Seventh Street SW., Room 7164, Washington, DC 20410, telephone (202) 708-2684.

• Regulation: 24 CFR 570.308(a)(1).

Project/Activity: Because of the many problems that the city of Pontiac, MI experienced with regard to the administration of its Community Development Block Grant (CDBG) program on September 29, 2011, the city decided to relinquish its entitlement status and become a participating unit of local government in Oakland County's CDBG program. However, in subsequent conversations, Pontiac decided to retain its metropolitan city status. HUD then determined that it could not recognize the cooperation agreement that was executed on October 5, 2011. Instead the city and county decided to enter into a joint agreement for program years 2012-2014. On March 9, 2012, the city and county submitted an executed joint agreement/cooperation agreement to HUD.

Nature of Requirement: HUD's regulation at 24 CFR 570.308(a)(1) states that a joint request shall only be considered if submitted at the time an urban county is seeking a three year qualification or requalification as an urban county. In 2011, Oakland County re-qualified as an urban county for program years 2012-2014. The urban county qualification/requalification process closed on September 30, 2011.

Granted By: Mercedes Márquez, Assistant Secretary, Community Planning and Development.

Date Granted: March 21, 2012.

Reason Waived: HUD's regulation at 24 CFR 570.308(a)(1) was waived so that Oakland County and the city of Pontiac would be permitted to enter into a joint agreement after the urban county qualification/requalification period had closed.

Contact: Gloria Coates, Office of Block Grant Assistance, Entitlement Communities Division, Office of Community Planning and Development, Department of Housing and Urban Development, 451 Seventh Street SW., Room 7282, Washington, DC 20410, telephone (202) 708-1577.

• Regulation: 24 CFR 570.308(c).

Project/Activity: Oakland County, MI requested a waiver for its 2012 program year so that it would be permitted to continue to use its low and moderate income exception percentage of 35.3 percent when carrying out activities that meet the national objective of benefit to low and moderate income persons on an area basis. The city of Pontiac had relinquished its entitlement status, effective September 30, 2011, so that it could become a participating unit of local government in Oakland County's CDBG program. As a result, the urban county's low and moderate income exception percentage rose from 35.3 percent to 43.6 percent for its 2012 program year. This exception percentage rose because of Pontiac's low and moderate income percentage of 64.9 percent. The city and county later determined that they would enter into a joint agreement, which also modified the urban county's configuration. The rise in the county's low and moderate income exception percentage would impact the county's ability to carry out planned capital improvement and infrastructure activities in 24 of its 51 participating units of general local government.

Nature of Requirement: HUD's regulation at 24 CFR 570.308(c) states that a metropolitan city entering into a joint agreement shall be treated the same as any other unit of general local government which is part of the urban county. Therefore, similar to other participating units of local government within the urban county, the city's block groups form a part of the urban county's configuration.

Granted By: Mercedes Márquez, Assistant Secretary, Community Planning and Development.

Date Granted: March 21, 2012.

Reason Waived: The waiver was granted to permit the exclusion of the city of Pontiac's block groups in calculating Oakland County's low and moderate income exception percentage for its 2012 program year to provide ample time for planning and mitigating the effects of the change in the exception percentage. As a result, 24 of the county's 51 participating units of local government would not experience the loss of CDBG-eligible low and moderate income areas, permitting capital improvement and infrastructure activities to be carried out in these areas.

Contact: Gloria Coates, Office of Block Grant Assistance, Entitlement Communities Division, Office of Community Planning and Development, Department of Housing and Urban Development, 451 Seventh Street SW., Room 7282, Washington, DC 20410, telephone (202) 708-1577.

• Regulation: Sections III.B and III.C of the Notice of Allocations, Application Procedures, and Requirements for Homeless Prevention and Rapid Re-Housing Program (HPRP) Grantees under the American Recovery and Reinvestment of 2009 (Recovery Act of 2009), issued March 19, 2009 (HPRP Notice).

Project/Activity: Collier County, FL requested a waiver of the subgrantee restrictions in the HPRP Notice in order to subgrant HPRP funds to the Collier County Housing Authority (CCHA).

Nature of Requirement: The County requested a waiver of the requirement that HPRP funds can be distributed only to private nonprofit organizations or another local government, under Sections III.B and III.C of the Notice of Allocations, Application Procedures, and Requirements for Homelessness Prevention and Rapid Re-Housing Program Grantees.

Granted By: Mercedes Márquez. Assistant Secretary for Community Planning and Development.

Date Granted: January 31, 2012.

Reason Waived: The County provided sufficient information for HUD to conclude the following: (1) HPRP participants would be selected in a manner that would ensure CCHA residents are not unfairly selected over other eligible individuals and families; (2) utilizing CCHA as a subgrantee would result in an efficient and effective program that benefits HPRP participants; and (3) CCHA has the capacity to serve homeless persons.

Contact: Ann M. Oliva, Director, Office of Special Needs Assistance Programs, Office of Community Planning and Development, Department of Housing and Urban Development, 451 Seventh Street SW., Room 7262, Washington, DC 20410, telephone number (202) 708-4300.

II. Regulatory Waivers Granted by the Office of Housing—Federal Housing Administration (FHA)

For further information about the following regulatory waivers, please see the name of the contact person that immediately follows the description of the waiver granted.

• Regulation: 24 CFR 200.926d (f)(1)(i) and (f)(2)(i).

Project/Activity: Waiver granted to permit new construction single family dwellings in the following boroughs of Alaska: Juneau, Mantanuska-Susitna, Anchorage, Bethel, North Slope (Barrow), Fairbanks (North Star and Southeast) and the Kenai Peninsula to rely upon alternative water systems.

Nature of Requirement: FHA's Minimum Property Standards (MPS) regulations governing new construction for single-family dwellings provide, at 24 CFR 200.926d(f)(1)(i) and (f)(2)(i), that to be eligible for FHA insurance, each living unit within newly constructed single-family residential property should be capable of delivering a flow of 5 gallons per minute (gpm) over a 4 hour period in order to provide a continuing and sufficient supply of safe water under adequate pressure and appropriate quality for household use.

Granted By: Carol J. Galante, Acting Assistant Secretary for Housing-Federal Housing Commissioner.

Date Granted: March 26, 2012.

Reason Waived: In the identified boroughs of Alaska, conventional water supply systems, such as those required under FHA's MPS, are not feasible as water sources due to the unique geographical characteristics present there. State and local building codes in Alaska provide requirements for such alternative water supply systems that address health and safety concerns, and FHA finds these requirements to be adequate.

Contact: Peter W. Gillispie, Single Family Program Development, Office of Housing, Department of Housing and Urban Development, 425 Third Street, Capitol View, 5th Floor, Washington, DC 20410, telephone (202) 402-3368.

• Regulation: 24 CFR 232.3.

Project/Activity: The Bay Ridge Assisted Living Facility (Bay Ridge facility) is a 45 unit assisted living and memory care facility located in Traverse City, Michigan.

Nature of Requirement: HUD's regulation at 24 CFR 232.3 mandates that, in a board and care home or assisted living facility, not less than one full bathroom must be provided for every four residents. Also, the bathroom cannot be accessed from a public corridor or area.

Granted By: Carol J. Galante, Acting Assistant Secretary for Housing-Federal Housing Commissioner.

Date Granted: January 26, 2012.

Reason Waived: Most of the memory care section's residents at the Bay Ridge facility need assistance with bathing and present special circumstances that do not exist in a traditional assisted living facility. In terms of the building, the “hallways” which the residents in each building must cross in order to bathe are not located in an area that will be frequented by anyone other than staff or other residents.

Contact: Vance T. Morris, Special Assistant, Office of Healthcare Programs, Office of Housing, Department of Housing and Urban Development, 451 Seventh Street SW., Room 2337, Washington, DC 20410, telephone (202) 402-2419.

• Regulation: 24 CFR 232.3.

Project/Activity: Aim House Board and Care Facility (Aim House) located in Boulder, Colorado.

Nature of Requirement: HUD's regulation at 24 CFR 232.3 mandates that, in a board and care home or assisted living facility, the bathroom cannot be accessed from a public corridor or area.

Granted By: Carol J. Galante, Acting Assistant Secretary for Housing-Federal Housing Commissioner.

Date Granted: February 6, 2012.

Reason Waived: A waiver of portions of 24 CFR 232.3 eliminated the requirement that bathroom access from any bedroom or sleeping area must not pass through a public corridor or area in circumstance where access is gained by utilizing a common hallway shared by the residents in the sleeping area. The waiver would thus eliminated any violation of this regulatory provision that might otherwise be said to occur, in light of the lack of definitions of “public corridor” or “public area” within 24 CFR 232.3 itself.

Contact: Vance T. Morris, Special Assistant, Office of Healthcare Programs, Office of Housing, Department of Housing and Urban Development, 451 Seventh Street SW., Room 2337, Washington, DC 20410, telephone (202) 402-2419.

• Regulation: 24 CFR 232.3.

Project/Activity: The Brian Center Nursing Care—Low Moor (Brian Center) has a license for 26 beds of assisted living care. The project is located in Low Moor, Virginia.

Nature of Requirement: HUD's regulation at 24 CFR 232.3 mandates that, in a board and care home or assisted living facility, not less than one full bathroom must be provided for every four residents. Also, the bathroom cannot be accessed from a public corridor or area.

Granted By: Carol J. Galante, Acting Assistant Secretary for Housing-Federal Housing Commissioner.

Date Granted: March 23, 2012.

Reason Waived: The Brian Center facility's assisted living section has a significant number of residents that require assistance with bathing, toileting, and dressing. Consequently, having shower rooms outside of the units allows for a larger space, giving their staff more room to provide assistance to the residents. Brian Center also concluded that this arrangement leads to fewer falls and other shower mishaps. The Brian Center facility's assisted living section also meets the State of Virginia regulation for the ratio of showers to residents.

Contact: Vance T. Morris, Special Assistant, Office of Healthcare Programs, Office of Housing, Department of Housing and Urban Development, 451 Seventh Street SW., Room 2337, Washington, DC 20410, telephone (202) 402-2419.

• Regulation: 24 CFR 232.505(a), 232.540(b), 232.605, 232.620—Fire Safety Equipment Loan Program.

Project/Activity: Supplemental Loans to Finance Purchase and Installation of Fire Safety Equipment.

Nature of Requirement: HUD's requirements in 24 CFR 232.505(a), 232.540(b), 232.606, 232.620, establish the processing requirements for application of insurance of a fire safety loan.

Granted By: Carol J. Galante, Acting Assistant Secretary for Housing-Federal Housing Commissioner.

Date Granted: March 14, 2012.

Reason Waived: It was determined that there was an urgent need to install automatic fire sprinkler systems in nursing homes due to a new federal mandate, and therefore the need to reduce the processing times to obtain insurance for the fire safety loan.

Contact: Vance T. Morris, Special Assistant, Office of Healthcare Programs, Office of Housing, Department of Housing and Urban Development, 451 Seventh Street SW., Room 2337, Washington, DC 20410, telephone (202) 402-2419.

• Regulation: 24 CFR 891.100(d).

Project/Activity: Mound Road Apartments, Joliet, IL, Project Number: 071-HD164/IL06-Q091-004.

Nature of Requirement: Section 891.100(d) prohibits amendment of the amount of the approved capital advance funds prior to closing.

Granted by: Carol J. Galante, Acting Assistant Secretary for Housing-Federal Housing Commissioner.

Date Granted: January 6, 2012.

Reason Waived: The project is economically designed and comparable in cost to similar projects in the area, and the sponsor/owner exhausted all efforts to obtain additional funding from other sources.

Contact: Catherine M. Brennan, Acting Director, Office of Housing Assistance and Grant Administration, Office of Housing, Department of Housing and Urban Development, 451 Seventh Street SW., Room 6138, Washington, DC 20410, telephone (202) 708-3000.

• Regulation: 24 CFR 891.100(d).

Project/Activity: Jack & Margaret Myers Senior Residence, Rahway, NJ, Project Number: 031-EE074/NJ39-S091-001.

Nature of Requirement: Section 891.100(d) prohibits amendment of the amount of the approved capital advance funds prior to closing.

Granted by: Carol J. Galante, Acting Assistant Secretary for Housing-Federal Housing Commissioner.

Date Granted: January 19, 2012.

Reason Waived: The project is economically designed and comparable in cost to similar projects in the area, and the sponsor/owner exhausted all efforts to obtain additional funding from other sources.

Contact: Catherine M. Brennan, Acting Director, Office of Housing Assistance and Grant Administration, Office of Housing, Department of Housing and Urban Development, 451 Seventh Street SW., Room 6138, Washington, DC 20410, telephone (202) 708-3000.

• Regulation: 24 CFR 891.100(d).

Project/Activity: Shawnee Supportive Housing, Shawnee, KS, Project Number: 084-HD054/KS16-Q061-001.

Nature of Requirement: Section 891.100(d) prohibits amendment of the amount of the approved capital advance funds prior to closing.

Granted by: Carol J. Galante, Acting Assistant Secretary for Housing-Federal Housing Commissioner.

Date Granted: January 19, 2012.

Reason Waived: The project is economically designed and comparable in cost to similar projects in the area, and the sponsor/owner exhausted all efforts to obtain additional funding from other sources.

Contact: Catherine M. Brennan, Acting Director, Office of Housing Assistance and Grant Administration, Office of Housing, Department of Housing and Urban Development, 451 Seventh Street SW., Room 6138, Washington, DC 20410, telephone (202) 708-3000.

• Regulation: 24 CFR 891.100(d).

Project/Activity: Notestine Manor, Bellefontaine, OH, Project Number: 043-EE129/OH16-S091-002.

Nature of Requirement: Section 891.100(d) prohibits amendment of the amount of the approved capital advance funds prior to closing.

Granted by: Carol J. Galante, Acting Assistant Secretary for Housing-Federal Housing Commissioner.

Date Granted: February 9, 2012.

Reason Waived: The project is economically designed and comparable in cost to similar projects in the area, and the sponsor/owner exhausted all efforts to obtain additional funding from other sources.

Contact: Catherine M. Brennan, Acting Director, Office of Housing Assistance and Grant Administration, Office of Housing, Department of Housing and Urban Development, 451 Seventh Street SW., Room 6138, Washington, DC 20410, telephone (202) 708-3000.

• Regulation: 24 CFR 891.100(d).

Project/Activity: C'est Tres Bon. Hammond, LA, Project Number: 064-HD130/LA48-Q091-005.

Nature of Requirement: Section 891.100(d) prohibits amendment of the amount of the approved capital advance funds prior to closing.

Granted by: Carol J. Galante, Acting Assistant Secretary for Housing-Federal Housing Commissioner.

Date Granted: February 9, 2012.

Reason Waived: The project is economically designed and comparable in cost to similar projects in the area, and the sponsor/owner exhausted all efforts to obtain additional funding from other sources.

Contact: Catherine M. Brennan, Acting Director, Office of Housing Assistance and Grant Administration, Office of Housing, Department of Housing and Urban Development, 451 Seventh Street SW., Room 6138, Washington, DC 20410, telephone (202) 708-3000.

• Regulation: 24 CFR 891.100(d).

Project/Activity: ASI Greeley II, Greeley, CO Project Number: 101-HD056/CO99-Q091-003.

Nature of Requirement: Section 891.100(d) prohibits amendment of the amount of the approved capital advance funds prior to closing.

Granted by: Carol J. Galante, Acting Assistant Secretary for Housing-Federal Housing Commissioner.

Date Granted: February 9, 2012.

Reason Waived: The project is economically designed and comparable in cost to similar projects in the area, and the sponsor/owner exhausted all efforts to obtain additional funding from other sources.

Contact: Catherine M. Brennan, Acting Director, Office of Housing Assistance and Grant Administration, Office of Housing, Department of Housing and Urban Development, 451 Seventh Street SW., Room 6138, Washington, DC 20410, telephone (202) 708-3000.

• Regulation: 24 CFR 891.100(d).

Project/Activity: Bii Di Gain Dash Anwebi Elder Housing, Incorporated, Project Number: 092-EE140/MN46-S091-005.

Nature of Requirement: Section 891.100(d) prohibits amendment of the amount of the approved capital advance funds prior to closing.

Granted by: Carol J. Galante, Acting Assistant Secretary for Housing-Federal Housing Commissioner.

Date Granted: February 16, 2012.

Reason Waived: The project is economically designed and comparable in cost to similar projects in the area, and the sponsor/owner exhausted all efforts to obtain additional funding from other sources.

Contact: Catherine M. Brennan, Acting Director, Office of Housing Assistance and Grant Administration, Office of Housing, Department of Housing and Urban Development, 451 Seventh Street SW., Room 6138, Washington, DC 20410, telephone (202) 708-3000.

• Regulation: 24 CFR 891.100(d).

Project/Activity: Monarch Place Apartments, Marion, OH, Project Number: 043-HD057/OH16-Q091-001.

Nature of Requirement: Section 891.100(d) prohibits amendment of the amount of the approved capital advance funds prior to closing.

Granted by: Carol J. Galante, Acting Assistant Secretary for Housing-Federal Housing Commissioner.

Date Granted: March 9, 2012.

Reason Waived: The project is economically designed and comparable in cost to similar projects in the area, and the sponsor/owner exhausted all efforts to obtain additional funding from other sources.

Contact: Catherine M. Brennan, Acting Director, Office of Housing Assistance and Grant Administration, Office of Housing, Department of Housing and Urban Development, 451 Seventh Street SW., Room 6138, Washington, DC 20410, telephone (202) 708-3000.

• Regulation: 24 CFR 891.165.

Project/Activity: Coretta Scott-King Apartments, Brooklyn, NY, Project Number: 012-EE356/NY36-S071-002.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: January 5, 2012.

Reason Waived: Additional time was needed for the sponsor/owner to secure additional funding, for the firm commitment to be processed and issued, and for the project to achieve initial closing.

Contact: Catherine M. Brennan, Acting Director, Office of Housing Assistance and Grant Administration, Office of Housing, Department of Housing and Urban Development, 451 Seventh Street SW., Room 6138, Washington, DC 20410, telephone (202) 708-3000.

• Regulation: 24 CFR 891.165.

Project/Activity: St. Michaels Housing, East Hampton, NY, Project Number: 012-EE362/NY36-S071-008.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: January 5, 2012.

Reason Waived: Additional time was needed to complete the extensive local approval process required by the Town of East Hampton.

Contact: Catherine M. Brennan, Acting Director, Office of Housing Assistance and Grant Administration, Office of Housing, Department of Housing and Urban Development, 451 Seventh Street SW., Room 6138, Washington, DC 20410, telephone (202) 708-3000.

• Regulation: 24 CFR 891.165.

Project/Activity: Liberty Resources 13, Philadelphia, PA, Project Number: 034-HD100/PA26-Q081-003.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: January 6, 2012.

Reason Waived: Additional time was needed for the project to achieve an initial closing.

Contact: Catherine M. Brennan, Acting Director, Office of Housing Assistance and Grant Administration, Office of Housing, Department of Housing and Urban Development, 451 Seventh Street SW., Room 6138, Washington, DC 20410, telephone (202) 708-3000.

• Regulation: 24 CFR 891.165.

Project/Activity: AHEPA Apartments #63, Tallmadge, OH, Project Number: 042-EE218/OH12-S071-004.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: January 19, 2012.

Reason Waived: Additional time was needed for the Sponsor/owner to resolve legal issues for this mixed finance project prior to initial closing.

Contact: Catherine M. Brennan, Acting Director, Office of Housing Assistance and Grant Administration, Office of Housing, Department of Housing and Urban Development, 451 Seventh Street, SW., Room 6138, Washington, DC 20410, telephone (202) 708-3000.

• Regulation: 24 CFR 891.165.

Project/Activity: Delta River Senior Village, Delta, MI, Project Number: 047-EE048/MI33-S081-001.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: January 19, 2012.

Reason Waived: Additional time was needed to receive approval of the site plan from the Delta Township, issue the firm commitment, and to initially close the project.

Contact: Catherine M. Brennan, Acting Director, Office of Housing Assistance and Grant Administration, Office of Housing, Department of Housing and Urban Development, 451 Seventh Street SW., Room 6138, Washington, DC 20410, telephone (202) 708-3000.

• Regulation: 24 CFR 891.165.

Project/Activity: Spruce Manor, Incorporated, Huntington, WV, Project Number: 045-HD044/WV15-Q091-001.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: February 6, 2012.

Reason Waived: Additional time was needed for approval of the site, submission of the firm commitment application, and for the project to achieve an initial closing.

Contact: Catherine M. Brennan, Acting Director, Office of Housing Assistance and Grant Administration, Office of Housing, Department of Housing and Urban Development, 451 Seventh Street SW., Room 6138, Washington, DC 20410, telephone (202) 708-3000.

• Regulation: 24 CFR 891.165.

Project/Activity: Jubilee Station, Charleston, WV, Project Number: 045-HD045/WV15-Q091-002.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: February 16, 2012.

Reason Waived: Additional time was needed for the sponsor/owner to respond to deficiencies in the firm commitment, for HUD to process and issue the firm commitment, and the initial closing to occur.

Contact: Catherine M. Brennan, Acting Director, Office of Housing Assistance and Grant Administration, Office of Housing, Department of Housing and Urban Development, 451 Seventh Street SW., Room 6138, Washington, DC 20410, telephone (202) 708-3000.

• Regulation: 24 CFR 891.165.

Project/Activity: Incor Two, Muskogee, OK, Project Number: 118-HD038/OK56-Q081-002.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: February 16, 2012.

Reason Waived: Additional time was needed for the initial closing documents to be approved and for the project to be initially closed.

Contact: Catherine M. Brennan, Acting Director, Office of Housing Assistance and Grant Administration, Office of Housing, Department of Housing and Urban Development, 451 Seventh Street SW., Room 6138, Washington, DC 20410, telephone (202) 708-3000.

• Regulation: 24 CFR 891.165.

Project/Activity: Orchard Housing, Springville, NY, Project Number: 014-EE266/NY06-S071-002.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: March 2, 2012.

Reason Waived: Additional time was needed for HUD to process and issue the firm commitment and for the project to achieve an initial closing.

Contact: Catherine M. Brennan, Acting Director, Office of Housing Assistance and Grant Administration, Office of Housing, Department of Housing and Urban Development, 451 Seventh Street SW., Room 6138, Washington, DC 20410, telephone (202) 708-3000.

• Regulation: 24 CFR 891.165.

Project/Activity: City of Utica Section 811 Project, Utica, NY, Project Number: 014-HD132/NY06-Q081-001.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: March 2, 2012.

Reason Waived: Additional time was needed for HUD to issue the firm commitment and for the project to achieve an initial closing.

Contact: Catherine M. Brennan, Acting Director, Office of Housing Assistance and Grant Administration, Office of Housing, Department of Housing and Urban Development, 451 Seventh Street SW., Room 6138, Washington, DC 20410, telephone (202) 708-3000.

• Regulation: 24 CFR 891.165.

Project/Activity: Woodburne House, Louisville, KY, Project Number: 083-EE112/KY36-S081-003.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: March 7, 2012.

Reason Waived: Additional time was needed for the sponsor/owner to complete technical submission items required by the Kentucky Housing Corporation as well as architectural drawings required by the National Park Service, and for the project to reach an initial closing.

Contact: Catherine M. Brennan, Acting Director, Office of Housing Assistance and Grant Administration, Office of Housing, Department of Housing and Urban Development, 451 Seventh Street SW., Room 6138, Washington, DC 20410, telephone (202) 708-3000.

• Regulation: 24 CFR 891.165.

Project/Activity: Villa Davis, Phoenix, AZ, Project Number: 123-HD044/AZ20-Q081-001.

Nature of Requirement: Section 891.165 provides that the duration of the fund reservation of the capital advance is 18 months from the date of issuance with limited exceptions up to 24 months, as approved by HUD on a case-by-case basis.

Granted by: Carol J. Galante, Acting Assistant Secretary for Housing-Federal Housing Commissioner.

Date Granted: March 22, 2012.

Reason Waived: Additional time was needed for the sponsor/owner to receive approval from the Phoenix City Council for additional funding, submit the firm commitment, and for the project to reach initial closing.

Contact: Catherine M. Brennan, Acting Director, Office of Housing Assistance and Grant Administration, Office of Housing, Department of Housing and Urban Development, 451 Seventh Street SW., Room 6138, Washington, DC 20410, telephone (202) 708-3000.

• Regulation: 24 CFR 891.165, 24 CFR 891.830(b) and 24 CFR 891.830(c)(4).

Project/Activity: Vineland Avenue Senior Housing, North Hollywood, CA, Project Number: 122-EE213/CA16-S091-005.

Nature of Requirement: Section 891.165 provides that the duration of the fund reservation of the capital advance is 18 months from the date of issuance with limited exceptions up to 24 months, as approved by HUD on a case-by-case basis. Section 891.830(b) requires that capital advance funds be drawn down only in an approved ratio to other funds, in accordance with a drawdown schedule approved by HUD. Section 891.830(c) (4) requires that capital advance funds be drawn down only in an approved ratio to other funds, in accordance with a drawdown schedule approved by HUD.

Granted by: Carol J. Galante, Acting Assistant Secretary for Housing-Federal Housing Commissioner.

Date Granted: January 20, 2012.

Reasons Waived: Additional time was needed for the firm commitment to be issued and the start of construction on this capital advance upon completion mixed-finance project. HUD in its response to the public comments in the final rule published September 23, 2005, stated “while HUD generally expects the capital advance funds to be drawn down in a one-to-one ratio for eligible costs actually incurred, HUD may permit on a case-by-case basis, some variance from the drawdown requirements as needed for the success of the project.” Therefore, the waiver was granted to permit capital advance funds to be used to collateralize the tax exempt bonds issued to finance the construction of the project and to pay off a portion of the tax-exempt bonds that strictly relate to capital advance eligible costs. Also, to allow the capital advance funds to be drawn down in a different mechanism than a pro rata basis in order to satisfy IRS's 50 percent test.

Contact: Catherine M. Brennan, Acting Director, Office of Housing Assistance and Grant Administration, Office of Housing, Department of Housing and Urban Development, 451 Seventh Street SW., Room 6138, Washington, DC 20410, telephone (202) 708-3000.

III. Regulatory Waivers Granted by the Office of Public and Indian Housing

For further information about the following regulatory waivers, please see the name of the contact person that immediately follows the description of the waiver granted.

• Regulation: 24 CFR 5.801(d)(1).

Project/Activity: Clinton Public Housing Authority, (MO031), Clinton, MO.

Nature of Requirement: HUD's regulation at 24 CFR 5.801(d)(1) establishes certain reporting compliance dates. The audited financial statements are required to be submitted to the Real Estate Assessment Center (REAC) no later than nine months after the housing authority's (HA) fiscal year end (FYE), in accordance with the Single Audit Act and OMB Circular A-133.

Granted By: Sandra B. Henriquez, Assistant Secretary for Public and Indian Housing

Date Granted: January 10, 2012.

Reason Waived: The housing authority (HA) requested additional time to submit its fiscal year end December 31, 2010, audited submission as a result of reporting issues with its mixed finance project. The HA staff contends that it did not receive definitive guidance on financial reporting for this project until June 13, 2011, from their auditor. The fiscal year 2010 unaudited financial submission did not include the mixed finance project. The waiver was granted given the uniqueness of this situation and the reporting compliance deadlines were waived for 45 days. The additional time would permit the HA to report the mixed finance project on its audited financial statements and audited financial data schedule. However, this Financial Assessment Subsystem audited submission waiver (extension) does not apply to Circular A-133 submissions to the Federal Audit Clearinghouse. The HA is required to meet the A-133 due dates.

Contact: Johnson Abraham, Program Manager, NASS, Real Estate Assessment Center, Office of Public and Indian Housing, Department of Housing and Urban Development, 550 12th Street SW., Suite 100, Washington, DC 20410, telephone (202) 475-8583.

• Regulation: 24 CFR 85.36 (d)(4)(i)(C).

Project/Activity: Cuyahoga Metropolitan Housing Authority, Miles Pointe Elderly and Euclid-Lee Senior projects.

Nature of Requirement: HUD's regulation at 24 CFR 85.36(d)(4)(i)(C) allows HUD to authorize the procurement of a developer through a non-competitive proposal.

Granted by: Sandra B. Henriquez, Assistant Secretary

Date Granted: January 30, 2012.

Reason Waived: HUD reviewed and acknowledged the Cuyahoga Metropolitan Housing Authority's decision to procure Union-Miles Development Corporation as the developer through a noncompetitive proposal.

Contact: Dominique Blom, Deputy Assistant Secretary for the Office of Public Housing Investments, Office of Public and Indian Housing, Department of Housing and Urban Development, 451 Seventh Street SW., Room 4130, Washington, DC 20140, telephone (202) 402-4181.

• Regulation: 24 CFR 902.20.

Project/Activity: Bessemer Housing Authority, (AL125), Bessemer, AL.

Nature of Requirement: The objective of HUD's regulation at 24 CFR 902.20 is to determine whether a housing authority (HA) is meeting the standard of decent, safe, sanitary, and in good repair. The Real Estate Assessment Center (REAC) provides for an independent physical inspection of a HA's property of properties that includes a statistically valid sample of the units.

Granted By: Sandra B. Henriquez, Assistant Secretary for Public and Indian Housing.

Date Granted: January 10, 2012.

Reason Waived: On September 5, 2011, the housing authority (HA) was impacted by tropical storm Lee. The Sunset Homes property was flooded and suffered major damage. HA submitted that a physical inspection at that time in time, would unduly penalize the HA and adversely affect its Public Housing Assessment System (PHAS) score. The waiver was granted. Waiving the reporting requirements would give the HA the necessary time to tend to any damage caused by the storm.

Contact: Johnson Abraham, Program Manager, NASS, Real Estate Assessment Center, Office of Public and Indian Housing, Department of Housing and Urban Development, 550 12th Street SW., Suite 100, Washington, DC 20410, telephone (202) 475-8583.

• Regulation: 24 CFR 902.20.

Project/Activity: Tuscaloosa Housing Authority, (AL077), Tuscaloosa, AL.

Nature of Requirement: The objective of HUD's regulation at 24 CFR 902.20 is to determine whether a housing authority (HA) is meeting the standard of decent, safe, sanitary, and in good repair. The Real Estate Assessment Center (REAC) provides for an independent physical inspection of a HA's property of properties that includes a statistically valid sample of the units.

Granted By: Sandra B. Henriquez, Assistant Secretary for Public and Indian Housing

Date Granted: January 26, 2012.

Reason Waived: On April 27, 2011, the housing authority (HA) main office and most units were completely destroyed due to a tornado. The HA is still recovering from the destruction and the staff is working in temporary facilities. A physical inspection at that point in time, would unduly penalize the HA and adversely affect its Public Housing Assessment System (PHAS) score. The waiver was granted. Waiving the reporting requirements would give the HA the necessary time to tend to any damage caused by the tornado.

Contact: Johnson Abraham, Program Manager, NASS, Real Estate Assessment Center, Office of Public and Indian Housing, Department of Housing and Urban Development, 550 12th Street SW., Suite 100, Washington, DC 20410, telephone (202) 475-8583.

• Regulation: 24 CFR 902.20.

Project/Activity: Davis Community Housing Authority, (UT009), Farmington, UT.

Nature of Requirement: The objective of HUD's regulation at 24 CFR 902.20 is to determine whether a housing authority (HA) is meeting the standard of decent, safe, sanitary, and in good repair. The Real Estate Assessment Center (REAC) provides for an independent physical inspection of a HA's property of properties that includes a statistically valid sample of the units.

Granted By: Sandra B. Henriquez, Assistant Secretary for Public and Indian Housing.

Date Granted: February 27, 2012.

Reason Waived: On December 1, 2011, the housing authority (HA) experienced hurricane force winds that caused extensive damage to their properties including roofs, fences, carports, and storage areas. Many areas in Davis County were declared disaster areas, including some where HA properties are located. The Federal Emergency Management Association and the insurance industry classified the storm as “catastrophic.” The waiver of physical inspections was granted because it would give the HA the necessary time to tend to any damages caused by the hurricane. A physical inspection at this time would unduly penalize the HA and adversely affect its Public Housing Assessment System score.

Contact: Johnson Abraham, Program Manager, NASS, Real Estate Assessment Center, Office of Public and Indian Housing, Department of Housing and Urban Development, 550 12th Street SW., Suite 100, Washington, DC 20410, telephone (202) 475-8583.

• Regulation: 24 CFR 902.20.

Project/Activity: Springfield Housing Authority, (MA035), Springfield, MA.

Nature of Requirement: The objective of HUD's regulation at 24 CFR 902.20 is to determine whether a housing authority (HA) is meeting the standard of decent, safe, sanitary, and in good repair. The Real Estate Assessment Center (REAC) provides for an independent physical inspection of a HA's property of properties that includes a statistically valid sample of the units.

Granted By: Sandra B. Henriquez, Assistant Secretary for Public and Indian Housing.

Date Granted: March 2, 2012.

Reason Waived: The housing authority (HA) was impacted by a tornado and a snow storm that resulted in significant damage to four of the HA's seven projects. These projects received extensive structural damage, affecting roofs, gutters and windows. The county where the HA is located was declared a federal disaster area as a result of the tornado and again declared a federal disaster areas as a result of a subsequent snow storm. A partial waiver was granted for the Physical Assessment Subsystem (PASS) inspection requirements for four of the HA projects because the circumstances surrounding the waiver request are unusual and beyond the HA's control.

Contact: Johnson Abraham, Program Manager, NASS, Real Estate Assessment Center, Office of Public and Indian Housing, Department of Housing and Urban Development, 550 12th Street SW., Suite 100, Washington, DC 20410, telephone (202) 475-8583.

• Regulation: 24 CFR 941.606(n)(1)(ii)(B).

Project/Activity: Cuyahoga Metropolitan Housing Authority, Miles Pointe Elderly and Euclid-Lee Senior projects.

Nature of Requirement: HUD's regulation at 24 CFR 941.606(n)(1)(ii)(B) provision requires that “if the partner and/or owner entity (or any other entity with and identity of interest with such parties) wants to serve as the general contractor for the project or development, it may award itself the construction contract only if it can demonstrate to HUD's satisfaction that its bid is the lowest bid submitted in response to a public request for bids.”

Granted by: Sandra B. Henriquez, Assistant Secretary for Public and Indian Housing.

Date Granted: January 30, 2012.

Reason Waived: The Cuyahoga Metropolitan Housing Authority submitted an independent cost estimate.

Contact: Dominique Blom, Deputy Assistant Secretary for the Office of Public Housing Investments, Office of Public and Indian Housing, Department of Housing and Urban Development, 451 Seventh Street SW., Washington, DC 20140, Room 4130, telephone (202) 402-4181.

• Regulation: 24 CFR 941.606(n)(1)(ii)(B).

Project/Activity: Housing Authority of the City of Tuscaloosa, Rosedale Court Redevelopment Phase I—Project # AL077000014.

Nature of Requirement: HUD's regulation at 24 CFR 941.606(n)(1)(ii)(B) requires that “if the partner and/or owner entity (or any other entity with and identity of interest with such parties) wants to serve as the general contractor for the project or development, it may award itself the construction contract only if it can demonstrate to HUD's satisfaction that its bid is the lowest bid submitted in response to a public request for bids.”

Granted by: Sandra B. Henriquez, Assistant Secretary for Public and Indian Housing.

Date Granted: February 29, 2012.

Reason Waived: The Housing Authority of the City of Tuscaloosa submitted an independent cost estimate.

Contact: Dominique Blom, Deputy Assistant Secretary for the Office of Public Housing Investments, Office of Public and Indian Housing, Department of Housing and Urban Development, 451 Seventh Street SW., Washington, DC 20140, Room 4130, telephone (202) 402-4181.

• Regulation: 24 CFR 982.161.

Project/Activity: The Housing Authority of the City of Los Angeles (HACLA) requested, on July 21, 2011, a waiver to allow Commissioner Margarita Garr to continue to serve on their Board. She had served on the Board since 2008, but a potential conflict arose because she had also been employed by banks that do business with HACLA.

Nature of Requirement: HUD's regulation at 24 CFR 982.161 provides that neither a public housing agency (PHA) nor any of its contractors or subcontractors may enter into any contract or arrangement in connection with a PHA's tenant-based programs in which persons specified in the regulation have an interest, direct or indirect, during the tenure of the contract or one year thereafter. With respect to HACLA, HUD determined that there was a potential conflict because 24 CFR 982.161 and Section 19 of the Annual Contributions Contract (ACC), which prevents PHAs from entering into any contract in which a member of their governing board has a direct or indirect interest.

Granted By: Sandra B. Henriquez, Assistant Secretary for Public and Indian Housing.

Date Granted: March 7, 2012.

Reason Waived: Because of the conflict between the regulation and the ACC, HUD determined that good cause existed to grant the waiver request.

Contact: Jessica Yuen, Office of Public and Indian Housing, Department of Housing and Urban Development, 451 Seventh Street SW., Room 4210, Washington, DC, 20410, telephone (202) 708-6002.

• Regulation: 24 CFR 982.503(d) and 982.505(c)(3).

Project/Activity: Dodge County Housing Authority (DCHA), Dodge County, WI.

Nature of Requirement: HUD's regulation at 24 CFR 982.503(d) allows HUD to consider a public housing agency's request for approval to establish a payment standard that is lower than the basic range of 90 to 110 percent of the published fair market rent for each/any bedroom size, but HUD will not approve such payment standard amounts if the family share for more than 40 percent of voucher participants exceeds 30 percent of monthly adjusted income. 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: March 9, 2012.

Reason Waived: This waiver was granted because these cost-saving measures would enable the DCHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4210, Washington, DC, 20410, telephone (202) 708-0477.

• Regulation: 24 CFR 982.505(c)(3).

Project/Activity: Boonville Housing Authority (BHA), Boonville, NY.

Nature of Requirement: HUD's regulation at 24 CFR 982.505(c)(3) states that, if the amount on the payment standard schedule is decreased during the term of the housing assistance payments (HAP) contract, the lower payment standard amount generally must be used to calculate the monthly HAP for the family beginning on the effective date of the family's second regular reexamination following the effective date of the decrease.

Granted By: Sandra B. Henriquez, Assistant Secretary for Public and Indian Housing.

Date Granted: January 30, 2012.

Reason Waived: This waiver was granted because this cost-saving measure would enable the BHA to manage its Housing Choice Voucher program within allocated budget authority and avoid the termination of HAP contracts due to insufficient funding.

Contact: Laure Rawson, Director, Housing Voucher Management and Operations Division, Office of Public Housing and Voucher Programs, Office of Public and Indian Housing, Department of Housing and Urban Development, 451 Seventh Street SW., Room 4210, Washington, DC 20410, telephone (202) 708-0477.

[FR Doc. 2012-15614 Filed 6-26-12; 8:45 am]

BILLING CODE 4210-67-P